DEPARTMENT OF EDUCATION

West Virginia Department of Education; Written Findings and Compliance Agreement

AGENCY: Office of Elementary and Secondary Education, Department of Education.

ACTION: Notice of written findings and compliance agreement.

SUMMARY: Section 457 of the General Education Provisions Act (GEPA) authorizes the U.S. Department of Education to enter into a compliance agreement with a recipient that is failing to comply substantially with Federal program requirements. In order to enter into a compliance agreement, the Department must determine, in written findings, that the recipient cannot comply until a future date with the applicable program requirements and that a compliance agreement is a viable means of bringing about such compliance. On March 29, 2002, the Assistant Secretary for Elementary and Secondary Education (Assistant Secretary) entered into a compliance agreement with the West Virginia Department of Education (WVDE). Under section 457(b)(2) of GEPA, the written findings and compliance agreement must be published in the Federal Register.

FOR FURTHER INFORMATION CONTACT: Dr. Grace A. Ross, U.S. Department of Education, Office of Elementary and Secondary Education, 400 Maryland Avenue, SW., room 3W118, Washington, DC 20202. Telephone: (202) 260-0967.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: Under Title I, Part A of the Elementary and Secondary Education Act of 1965 (Title I), each State, including the District of Columbia and Puerto Rico, was required to develop or adopt, by the 1997-98 school year, challenging content standards in at least reading/language arts and mathematics that describe what the State expects all students to know and be able to do. Each State also was required to develop or adopt performance standards, aligned with its content standards that describe three levels of proficiency to determine how well students are mastering the content standards. Finally, by the 2000-2001 school year, each State was required to develop or adopt a set of student assessments in at least reading/language arts and mathematics that would be used to determine the yearly performance of schools in enabling students to meet the State's performance standards.

WVDE submitted, and the Department approved, evidence that it has content standards in at least reading/language arts and mathematics. In August 2000, WVDE submitted evidence of its final assessment system and performance standards. The Department submitted that evidence to a panel of three assessment experts for peer review. Following that review, the Assistant Secretary for Elementary and Secondary Education concluded that WVDE's proposed final assessment system and performance standards did not meet a number of the Title I requirements.

Section 454 of GEPA, 20 U.S.C. 1234c, sets out the remedies available to the Department when it determines that a recipient “is failing to comply substantially with any requirement of law” applicable to Federal program funds the Department administers. Specifically, the Department is authorized to—

(1) Withhold funds;

(2) Obtain compliance through a cease and desist order;

(3) Enter into a compliance agreement with the recipient; or

(4) Take any other action authorized by law. 20 U.S.C. 1234c(a)(1) through (a)(4).

In a letter dated November 8, 2000 to Dr. David Stewart, Superintendent of Schools for the West Virginia Department of Education, the Assistant Secretary notified WVDE that, in order to remain eligible to receive Title I funds, it must enter into a compliance agreement with the Department. The purpose of a compliance agreement is “to bring the recipient into full compliance with the applicable requirements of law as soon as feasible and not to excuse or remedy past violations of such requirements.” 20 U.S.C. 1234f(a). In order to enter into a compliance agreement with a recipient, the Department must determine, in written findings, that the recipient cannot comply until a future date with the applicable program requirements, and that a compliance agreement is a viable means for bringing about such compliance.

On March 29, 2002, the Assistant Secretary issued written findings, holding that compliance by WVDE with the Title I standards and assessment requirements is genuinely not feasible until a future date. Having submitted its assessment system for peer review in August 2000, WVDE was not able to make the significant changes to its system that the Department's review required in time to meet the spring 2001 statutory deadline to have approved assessments in place. As a result, WVDE administered its unapproved assessment system in 2001. The Assistant Secretary also determined that a compliance agreement represents a viable means of bringing about compliance because of the steps WVDE has already taken to comply, its commitment of resources, and the plan it has developed for further action. The agreement sets out the action plan that WVDE must meet to come into compliance with the Title I requirements. This plan, coupled with specific reporting requirements, will allow the Assistant Secretary to monitor closely WVDE's progress in meeting the terms of the compliance agreement. The Superintendent of WVDE, Dr. David Stewart, signed the agreement on March 22, 2002 and the Assistant Secretary signed it on March 29, 2002.

As required by section 457(b)(2) of GEPA, 20 U.S.C. 1234f(b)(2), the text of the Assistant Secretary's written findings is set forth as appendix A and the compliance agreement is set forth as appendix B of this notice.

Electronic Access to This Document

You may view this document, as well as all other Department of Education documents published in the Federal Register, in Text or Adobe Portable Document Format (PDF), on the Internet at the following site: http://www.ed.gov/legislation/FedRegister.

To use PDF, you must have Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register is available on GPO access at: http://www.access.gpo.gov/nara/index.html.

(Authority: 20 U.S.C. 1234c, 1234f, 6311)

Dated: February 13, 2003.
Eugene W. Hickock,
Under Secretary of Education.

Appendix A—Text of the Written Findings of the Assistant Secretary for Elementary and Secondary Education

I. Introduction

The Assistant Secretary for Elementary and Secondary Education (Assistant Secretary) of the U.S. Department of Education (Department) has determined, pursuant to 20 U.S.C. 1234c and 1234f, that the West Virginia Department of Education (WVDE) has failed to comply substantially with certain requirements of Title I, Part A of the Elementary and Secondary Education Act of 1965 (Title I), 20 U.S.C. 6301 et seq., and that it is not feasible for WVDE to achieve full compliance immediately. Specifically, the Assistant Secretary has determined that WVDE failed to meet a number of the Title I requirements concerning the development of performance standards and an aligned assessment system within the statutory timeframe.

For the following reasons, the Assistant Secretary has concluded that it would be appropriate to enter into a compliance agreement with WVDE to bring it into full compliance as soon as feasible. During the effective period of the compliance agreement, which ends three years from the date of these findings, WVDE will be eligible to receive Title I funds as long as it complies with the terms and conditions of the agreement as well as the provisions of Title I, Part A and other applicable Federal statutory and regulatory requirements.

II. Relevant Statutory and Regulatory Provisions

A. Title I, Part A of the Elementary and Secondary Education Act of 1965

Title I, Part A of the Elementary and Secondary Education Act of 1965 (Title I), 20 U.S.C. 6301 et seq., provides financial assistance, through State educational agencies, to local educational agencies to provide services in high-poverty schools to students who are failing or at risk of failing to meet the State's student performance standards. Under Title I, each State, including the District of Columbia and Puerto Rico, was required to develop or adopt, by the 1997-98 school year, challenging content standards in at least reading/language arts and mathematics that describe what the State expects all students to know and be able to do and performance standards, aligned with those content standards, that describe three levels of proficiency to determine how well students are mastering the content standards.

By the 2000-2001 school year, Title I required each State to develop or adopt a set of student assessments in at least reading/language arts and mathematics that would be used to determine the yearly performance of schools and school districts in enabling students to meet the State's performance standards. These assessments must meet the following requirements:

• The assessments must be aligned to a State's content and performance standards.

• They must be administered annually to students in at least one grade in each of three grade ranges: grades 3 through 5, grades 6 through 9, and grades 10 through 12.

• They must be valid and reliable for the purpose for which they are used and of high technical quality.

• They must involve multiple measures, including measures that assess higher-order thinking skills.

• They must provide for the inclusion of all students in the grades assessed, including students with disabilities and limited English proficient students.

• They must provide individual reports.

• Results from the assessments must be disaggregated and reported by major racial and ethnic groups and other categories.

20 U.S.C. 6311(b)(3).¹[1]

¹ On January 8, 2002, Title I of the Elementary and Secondary Education Act was reauthorized by the No Child Left Behind Act of 2001 (NCLB) (Pub. L. 107-110). The NCLB made several significant changes to the Title I standards and assessment requirements. First, it requires that each State develop academic content and student achievement standards in science by the 2005-06 school year. Second, by the 2005-06 school year, it requires a system of aligned assessments in each of grades 3 through 8 and once during grades 10 through 12. Third, it requires science assessments in at least three grade spans by the 2007-08 school year. Fourth, the NCLB significantly changes the definition of adequate yearly progress each State must establish to hold schools and school districts accountable, based on data from the 2001-02 test administration. Finally, by the 2002-03 school year, the NCLB requires State and school district report cards that include, among other things, assessment results disaggregated by various subgroups, two-year trend data, and percent of students tested.

B. The General Education Provisions Act

The General Education Provisions Act (GEPA) provides a number of options when the Assistant Secretary determines a recipient of Department funds is “failing to comply substantially with any requirement of law applicable to such funds.” 20 U.S.C. 1234c. In such case, the Assistant Secretary is authorized to—

(1) Withhold funds;

(2) Obtain compliance through a cease and desist order;

(3) Enter into a compliance agreement with the recipient; or

(4) Take any other action authorized by law. 20 U.S.C. 1234c(a)(1) through (a)(4).

Under section 457 of GEPA, the Assistant Secretary may enter into a compliance agreement with a recipient that is failing to comply substantially with specific program requirements. 20 U.S.C. 1234f. The purpose of a compliance agreement is “to bring the recipient into full compliance with the applicable requirements of the law as soon as feasible and not to excuse or remedy past violations of such requirements.” 20 U.S.C. 1234f(a). Before entering into a compliance agreement with a recipient, the Assistant Secretary must hold a hearing at which the recipient, affected students and parents or their representatives, and other interested parties are invited to participate. At that hearing, the recipient has the burden of persuading the Assistant Secretary that full compliance with the applicable requirements of law is not feasible until a future date and that a compliance agreement is a viable means for bringing about such compliance. 20 U.S.C. 1234f(b)(1). If, on the basis of all the available evidence, the Assistant Secretary determines that compliance until a future date is genuinely not feasible and that a compliance agreement is a viable means for bringing about such compliance, the Assistant Secretary must make written findings to that effect and publish those findings, together with the substance of any compliance agreement, in the Federal Register. 20 U.S.C. 1234f(b)(2).

A compliance agreement must set forth an expiration date, not later than three years from the date of these written findings, by which time the recipient must be in full compliance with all program requirements. 20 U.S.C. 1234f(c)(1). In addition, a compliance agreement must contain the terms and conditions with which the recipient must comply during the period that agreement is in effect. 20 U.S.C. 1234f(c)(2). If the recipient fails to comply with any of the terms and conditions of the compliance agreement, the Assistant Secretary may consider the agreement no longer in effect and may take any of the compliance actions described previously. 20 U.S.C. 1234f(d).

III. Analysis

A. Overview of Issues To Be Resolved in Determining Whether a Compliance Agreement Is Appropriate

In deciding whether a compliance agreement between the Assistant Secretary and WVDE is appropriate, the Assistant Secretary must first determine whether compliance by WVDE with the Title I standards and assessment requirements is genuinely not feasible until a future date. 20 U.S.C. 1234f(b). The second issue that the Assistant Secretary must resolve is whether WVDE will be able, within a period of up to three years, to come into compliance with the Title I requirements. Not only must WVDE come into full compliance by the end of the effective period of the compliance agreement, it must also make steady and measurable progress toward that objective while the compliance agreement is in effect. If such an outcome is not possible, then a compliance agreement between the Assistant Secretary and WVDE would not be appropriate.

B. WVDE Has Failed To Comply Substantially With Title I Standards and Assessment Requirements

In August 2000, WVDE submitted evidence of its final assessment system. The Assistant Secretary submitted that evidence to a panel of three assessment experts for peer review. Following that review, the Assistant Secretary for Elementary and Secondary Education concluded that WVDE's proposed final assessment system did not meet a number of the Title I requirements. Specifically, the Assistant Secretary determined that WVDE must do the following:

• Develop or select an academic assessment system that represents the full range of the WVDE's academic content standards and academic achievement standards in at least reading/language arts and mathematics and is consistent with the Title I requirements for use of multiple measures of student achievement, including measures that assess higher-order thinking and understanding. Document the alignment of the assessment system with WVDE's academic content and student achievement standards.

• Provide evidence that the State assessment will be used for purposes for which such assessments are valid and reliable, and be consistent with relevant, nationally recognized professional and technical standards for such assessments.

• Provide evidence of performance standards aligned to content standards.

• Clarify how reasonable accommodations are provided to students with disabilities and limited English proficient students that allow for their scores to be included in the accountability system.

• Clarify how data for students who take the alternate assessment and students administered assessments with non-standard accommodations will be incorporated into the accountability system.

• Provide complete participation data for students with disabilities and limited English proficient students so that the State's inclusion policies relating to assessment, reporting, and accountability can be evaluated.

• Provide individual reports of student achievement relative to the State performance standards.

• Provide school, district, and State level reports using disaggregated data by all the required categories.

• Provide evidence that LEAs are completing and disseminating school and district profiles that include statistically sound disaggregated results.

• Clarify how the State defines “full academic year” for including students in determining adequate yearly progress.

C. WVDE Cannot Correct Immediately Its Noncompliance With the Title I Standards and Assessment Requirements

Under the Title I statute, WVDE was required to implement its final assessment system no later than the 2000-2001 school year. 20 U.S.C. 6311(b)(6). WVDE submitted evidence of its assessment system in August 2000, but the Assistant Secretary determined, on the basis of that evidence, that WVDE's system did not fully meet the Title I requirements. Due to the enormity and complexity of developing a new assessment system that addressed the Assistant Secretary's concerns, WVDE was not able to complete that task between the time it submitted its system for review and the spring 2001 assessment window. Thus, in spring 2001, WVDE administered the assessment that the Assistant Secretary had determined did not meet the Title I requirements. As a result, the Assistant Secretary finds that it is not genuinely feasible for WVDE to come into compliance until a future date.

D. WVDE Can Meet the Terms and Conditions of a Compliance Agreement and Come Into Full Compliance With the Requirements of Title I Within Three Years

At the public hearing, WVDE presented evidence of its commitment and capability to come into compliance with the Title I standards and assessment requirements within three years. For example, the following have been developed in the last 18 months: content standards and objectives for core courses grades K-12; performance standards, three levels performance descriptors for those three levels performance for core courses K-12; a comprehensive, completely revised plan for a statewide assessment system that meets both the old law and the provisions of the reauthorization.

Finally, WVDE has developed a comprehensive action plan, incorporated into the compliance agreement, that sets out a very specific schedule that WVDE has agreed to meet during the next three years for attaining compliance with the Title I standards and assessment requirements. As a result, WVDE is committed not only to coming into full compliance within three years, but to meeting a stringent, but reasonable, schedule for doing so. The action plan also demonstrates that WVDE will be well on its way to meeting the new standards and assessment requirements of the No Child Left Behind Act of 2001. The compliance agreement also sets out documentation and reporting procedures that WVDE must follow. These provisions will allow the Assistant Secretary to ascertain promptly whether WVDE is meeting each of its commitments under the compliance agreement and is on schedule to achieve full compliance within the effective period of the agreement.

The task of developing an assessment system that meets the Title I requirements is not a quick or easy one. However, the Assistant Secretary has determined that, given the commitment of WVDE to comply with the terms and conditions of the compliance agreement, it is possible for WVDE to come into full compliance with the Title I standards and assessment requirements within three years.

IV. Conclusion

For the foregoing reasons, the Assistant Secretary finds the following: (1) That full compliance by WVDE with the standards and assessment requirements of Title I is not feasible until a future date; and (2) that WVDE can meet the terms and conditions of the attached compliance agreement and come into full compliance with the Title I standards and assessment requirements within three years of the date of these findings. Therefore, the Assistant Secretary has determined that it is appropriate to enter into a compliance agreement with WVDE. Under the terms of 20 U.S.C. 1234f, that compliance agreement becomes effective on the date of these findings.

Dated: March 29, 2002.
Susan B. Neuman,
Assistant Secretary, Office of Elementary and Secondary Education.

Appendix B—Text of the Compliance Agreement

Compliance Agreement Under Title I of the Elementary and Secondary Education Act Between the United States Department of Education and the West Virginia Department of Education

Introduction

Title I of the Elementary and Secondary Education Act of 1965 (Title I) required each State, including the District of Columbia and Puerto Rico, to develop or adopt, by the 1997-98 school year, challenging content standards in at least reading/language arts and mathematics that describe what the State expects all students to know and be able to do. Title I also required each State to develop or adopt performance standards, aligned with those content standards, that describe three levels of proficiency to determine how well students are mastering the content standards. By the 2000-2001 school year, Title I required each State to develop or adopt a set of student assessments in at least reading/language arts and mathematics that would be used to determine the yearly performance of schools and school districts in enabling students to meet the State's performance standards.

The West Virginia Department of Education (WVDE) was not able to meet these requirements by the statutory deadlines. In order to be eligible to continue to receive Title I funds while working to comply with the statutory requirements, Dr. David Stewart, Superintendent of WVDE, indicated WVDE's interest in entering into a compliance agreement with the Office of Elementary and Secondary Education (OESE) of the United States Department of Education. On February 4, 2002 OESE conducted a public hearing regarding WVDE's ability to come into compliance with the Title I standards and assessment requirements within three years. Based on testimony at that hearing, Mr. William Luff, Deputy State Superintendent, testified that compliance by WVDE with the Title I standards and assessment requirements was not possible by this school year. According to the Deputy State Superintendent, when the current State Superintendent was advised, “by the U.S. office, in late spring, that our assumptions about use of the existing assessments were incorrect, he immediately directed the department staff to come into full compliance with the law as quickly as possible.”

Pursuant to this Compliance Agreement under 20 U.S.C. 1234f, WVDE must be in full compliance with the requirements of Title I no later than three years from the date of the Assistant Secretary's written findings, a copy of which is attached to, and incorporated by reference into, this Agreement. Specifically, WVDE must meet, and document that it has met, the following requirements:

1. Develop or select an academic assessment system that represents the full range of the WVDE's academic content standards and academic achievement standards in at least reading/language arts and mathematics and is consistent with the Title I requirements for use of multiple measures of student achievement, including measures that assess higher-order thinking and understanding. Document the alignment of the assessment system with WVDE's academic content and student achievement standards.

2. Provide evidence that the State assessment shall be used for purposes for which such assessments are valid and reliable, and be consistent with relevant, nationally recognized professional and technical standards for such assessments.

3. Provide evidence of performance standards aligned to content standards.

4. Clarify how reasonable accommodations are provided to students with disabilities and limited English proficient students that allow for their scores to be included in the accountability system.

5. Clarify how data for students who take the alternate assessment and students administered assessments with non-standard accommodations will be incorporated into the accountability system.

6. Provide complete participation data for students with disabilities and LEP students so that the State's inclusion policies relating to assessment, reporting, and accountability can be evaluated.

7. Provide individual reports of student achievement relative to the state performance standards.

8. Provide school, district, and State level reports using disaggregated data by all the required categories.

9. Provide evidence that LEAs are completing and disseminating school and district profiles that include statistically sound disaggregated results.

10. Clarify how the State defines “full academic year” for including students in determining adequate yearly progress.

During the period that this Compliance Agreement is in effect, WVDE is eligible to receive Title I, Part A funds if it complies with the terms and conditions of this Agreement, as well as the provisions of Title I, Part A and other applicable Federal statutory and regulatory requirements. Specifically, the Compliance Agreement sets forth the action steps WVDE must meet to come into compliance with the Title I standards and assessment requirements (See attached). WVDE must submit documentation concerning its compliance with these action steps.

The action steps, hereby incorporated into this Compliance Agreement by reference may be amended by joint agreement of the parties, provided full compliance can still be accomplished by the expiration date of the Agreement.

In addition to all of the terms and conditions set forth above, WVDE agrees that its continued eligibility to receive Title I, Part A funds is predicated upon compliance with statutory and regulatory requirements of that program that have not been addressed by this Agreement, including the requirements of the No Child Left Behind Act of 2001.

If WVDE fails to comply with any of the terms and conditions of this Compliance Agreement, including the action steps attached hereto the USED may consider the Agreement no longer in effect and may take any action authorized by law, including the withholding of funds or the issuance of a cease and desist order following notice and opportunity to be heard in accordance with 20 U.S.C. § 1234d. 20 U.S.C. § 1234f(d).

For the West Virginia Department of Education:
Dated: March 22, 2002.
Dr. David Stewart,
State Superintendent of Schools.
For the United States Department of Education:
Dated: March 22, 2002.
Susan B. Neuman,
Assistant Secretary, Office of Elementary and Secondary Education.

Date this Compliance Agreement becomes effective: April 5, 2002.

Title I Compliance Agreement—Work Plan/Time Line
| Component or measurable outcome | Public Law 103-382 | Documentation | Office responsible | Date
A Content Standards
A1 | Revise West Virginia's content standards in math and reading K-12. *Draft content standards in science. | Sec. 1111(b)(1)(c) | Office of Instructional Services Work Plan | Instructional Services | April 30, 2002.
A2 | Draft content standards sent to U.S. Department of Education. | Sec. 1111(b)(1)(A) | Policy 2520 | Instructional Services | April 30, 2002.
A3 | Document involvement of a broad base of education stakeholders in the development of content standards ensuring diversity in the composition of the group, especially in the areas of special education and limited English proficient expertise. | Sec. 1111(a)(1) | Committee Lists, Comment Process, Sample Comments | Instructional Services | April 30, 2002.
A4 | Document that the content standards are challenging for all students by providing conclusions from an independent review panel or organization. | Sec. 1111(b)(1)(D)-(i)(iii) | Teacher Comments, Description of Process | Instructional Services | April 30, 2002.
A5 | Document that all students are held to high standards. | Sec. 1111(b)(1)(C) | Policy 2520, Policy 2340, Policy 2510. | Instructional Services | April 30, 2002.
A6 | Document that the State has formally approved the content standards. *Including Science. | Sec. 1111(b)(1)(A) | Board Minutes, Policy 2520 | Instructional Services | April 30, 2002.
A7 | Send documentation to the U.S. Department of Education for formal peer review of content standards. | Sec. 1111(d)(1)(F) |  |  | April 30, 2002.
B Peformance Descriptors
B1 | Document a process for determining the foundation for developing performance standards, including what processes will be involved in writing the descriptors. | Sec. 1111(b)(1)(C) | Descriptor development agenda, Power Point presentations by consultants, and descriptor development routine | Instructional Services | April 30, 2002.
B2 | Draft performance levels and performance descriptors for reading 3-10, and math 3-8 and 10. | Sec. 1111(b)(1)(A) | See Section A3, Above | Instructional Services | April 30, 2002.
B3 | Document involvement of a broad base of education stakeholders in the development of performance descriptors ensuring diversity in the composition of the group, especially in the areas of special education and limited English proficient expertise. | Sec. 1111(a)(1) | See Section A3, Above | Instructional Services | April 30, 2002.
B4 | Draft performance descriptors sent to U.S. Department of Education. | Sec. 1111(b)(1)(A) | Policy 2520 | Instructional Services | April 30, 2002.
B5 | Document how performance descriptors are aligned with the content standards. | Sec. 1111(b)(1)(D)(ii)(I) | Policy 2520, Description of Process | Instructional Services | April 30, 2002.
B6 | Document that the performance descriptors are challenging for all students. | Sec. 1111(b)(1)(D)(i)(II) | Policy 2520; See Section A3, Above; Description of Process | Instructional Services | April 30, 2002.
B7 | Document that all students are held to the same high performance descriptors. | Sec. 1111(b)(1)(c) | Policy 2510, Policy 2520 | Instructional Services | April 30, 2002.
B8 | Document that the State has formally approved the draft performance descriptors. | Sec. 1111(b)(1)(A) | Policy 2520, Board Minutes | Instructional Services | April 30, 2002.
B9 | Send documentation to the U.S. Department of Education for formal peer review of draft performance descriptors. | Sec. 1111(d)(1)(F) | All of above | Instructional Services | April 30, 2002.
B10 | Administer assessments developed based on content standards and draft performance descriptors. | Sec. 1111(b)(3) | Test Blueprints, RFP, Copies of Reports | Assessment and Student Services | June 30, 2004.
B11 | Review draft performance descriptors based on assessment results. | Sec. 1111(b)(3)(D) | Agenda, Committee Lists | Instructional Services | September 30, 2004.
B12 | Set cut scores to determine performance level of standards based assessment in reading, language arts and math in grades 3-8, 10 by the bookmarking procedure. —standard setting meetings; —psychometric research; —technical studies; —scaling and equating; —programming costs. | Sec. 1111(b)(3)(D) | Formulas for determining standard setting procedure, agenda of meetings Technical Manual | Assessment and Student Services | September 30, 2004.
B13 | Document involvement of a broad base of education stakeholders in the setting of cut scores ensuring diversity in the composition of the group, especially in the areas of special education and limited English proficient expertise. | Sec. 1111(b)(3)(F) (ii) | Committee Lists, Agenda, Cut Score Recommendations | Assessment and Student Services | September 30, 2004.
B14 | Document that cut scores for performance levels are challenging for all students; —Three performance levels —Use bookmarking process. | Sec. 1111(b)(3)(E) | State profile of results of standards based tests by performance levels, schedule of meetings and events | Assessment and Student Services | September 30, 2004.
B15 | Document that all students are included in the cut scores. | Sec. 1111(b)(3)(A) | Summary of participation | Technology and Information Systems | September 30, 2004.
B16 | Document that the cut scores are aligned with the draft performance descriptors and the content standards. | Sec. 1111(b)(3)(B) | Final Alignment Study Report | Assessment and Student Services | September 30, 2004.
B17 | Document that the State has formally approved the performance cut scores. | Sec. 1111(b)(3) | Board Minutes | Assessment and Student Services | December 31, 2004.
B18 | Send documentation to the U.S. Department of Education for formal peer review of performance cut scores. | Sec. 1111(d)(1)(F) |  | Assessment and Student Services | December 31, 2004.
C1 | *Develop an RFP to secure services for test development, administration, scoring and reporting for grades 3-8, 10 |  | RFP, Committee Member Lists | Assessment and Student Services | June 30, 2002.
C2 | Send RFP to U.S. Department of Education |  | RFP, Committee Member Lists | Assessment and Student Services | June 30, 2002.
C3 | Negotiate and sign a contract for services needed to develop an assessment system |  | Release of Purchase Order, RFP | Assessment and Student Services | June 30, 2002.
C4 | Send contract to U.S. Department of Education |  | Release of Purchase Order, RFP | Assessment and Student Services | June 30, 2002.
C5 | *Complete detailed design and implementation activities required to create test items and test forms adequate to serve the purposes specified in the State's assessment ensuring validity, reliability and fairness for grades 3-8, 10 | Sec. 1111(b)(3)(V) | Test Design Document, Biasing Review, Reliability and Validity Studies | Assessment and Student Services | June 30, 2002-December 30, 2003.
C6 | Design an approach to ensure alignment of content and performance descriptors with the assessment considering comprehensiveness, emphasis, and depth. —Internal alignment Teacher committees —CTB External Alignment Norm Webb All alignment studies will address comprehensiveness of tests in terms of gaps and weaknesses, emphasis and depth of knowledge as well as thinking skill distribution | Sec. 1111 (b)(3)(E) | Letter to Norm Webb for Agreed Services as Vendor | Assessment and Student Services | June 30, 2002.
C7 | Before pilot, complete an analysis of the alignment of the assessment and standards identifying any gaps and weaknesses in the alignment | Sec. 1111 (b)(3)(B) | Report from Norm Webb, Vendor | Assessment and Student Services | December 30, 2003.
C8 | After pilot, complete an analysis of the alignment of the assessment and standards identifying any gaps and weaknesses in the alignment | Sec. 1111 (b)(3)(B) | Report from Norm Webb, Vendor | Assessment and Student Services | March 31, 2004.
C9 | Complete test items and review for bias to ensure that results measured the essence of the standards and does so for students of diverse backgrounds. —Internal Bias Review Committee —CTB Bias Review Committee | Sec. 1111 (b)(3)(F)(ii) | Blueprints of Pilot Tests | Assessment and Student Services | June 30, 2003.
C10 | *Administer pilot tests in grades 3-8, 10. Production, distribution, and administration | Sec. 1111 (b)(3)(E) | Pilot administration manual | Assessment and Student Services | December 30, 2003.
C11 | Design an approach to ensure alignment of content and performance descriptors with the assessment considering comprehensiveness, emphasis, and depth | Sec. 1111(b)(3)(E) | Letter to Vendor and Report re: Alignment Study | Assessment and Student Services | December 30, 2003.
C12 | Complete any needed adjustments in the test forms. Address gaps and weakness and make adjustments |  | First and Final Drafts of Test Forms | Assessment and Student Services | December 30, 2003.
C13 | Results of alignment study sent to U.S. Department of Education | Sec. 1111(b)(3)(B) | Alignment Study | Assessment and Student Services | December 30, 2004.
C14 | *Administer tests —Production —Distributions —Scoring | Sec. 1111(b)(3)(D) | Superintendent's letter with testing schedule | Assessment and Student Services | June 30, 2004.
C15 | Develop reports that are technically adequate for school and district accountability | Sec. 1111(b)(3)(H) | Copies of reports and accountability standards | Assessment and Student Services | December 30, 2004.
C16 | *Distribution of an itemized score analysis to support instructional improvement |  | Sample report based on test administered in 2001-2002 | Assessment and Student Services | *August 31, 2003 and Annually thereafter.
C17 | Develop technical manuals that contain such information as validity, reliability, fairness/accessibility, and comparability of results. —Reports —Revision of reports | Sec. 1111(b)(3)(C) | Technical manuals | Assessment and Student Services | December 30, 2004.
C18 | Develop procedures for test administration, scoring, data analysis, and reporting to meet high technical standards. —Administration manuals —Data Analysis and Technical Data | Sec. 1111(b)(3)(C) | Copies of protocol and procedures manual | Assessment and Student Services | December 30, 2003.
C19 | Procedures for test administration, scoring, data analysis, and reporting to meet high technical standards sent to U.S. Department of Education | Sec. 1111(b)(3)(C) | Copies of protocol and procedures manual | Assessment and Student Services | December 30, 2004.
C20 | Review of technical quality sent to U.S. Department of Education | Sec. 1111(b)(3)(C) | Technical Quality Document | Assessment and Student Services | June 30, 2004.
C21 | Submit evidence that the assessment includes multiple measures of student performance, including measures that assess higher-order thinking skills and understanding | Sec. 1111(b)(3)(E) | Vendor report (including matrix) Alignment study | Assessment and Student Services | December 30, 2004.
C22 | Submit assessment system to U.S. Department of Education for peer review | Sec. 1111(d)(1)(F) | See Above | Assessment and Student Services | December 30, 2004.
C23 | *Participation in the National Assessment of Educational Progress in 2003 and 2005 and, if selected, participation in the field test in off-years. |  | Consolidated State Plan | Assessment and Student Services | May 2002.
D1 | Develop policies for including LEP students in the statewide assessment system and revise guidelines for assessment for LEP guidelines. | Sec. 1111(b)(3)(F)(iii) | Policy 2340 | Assessment and Student Services | June 30, 2002.
D2 | Develop policies for including students with disabilities in the statewide assessment system and revise guidelines for assessment of students with disabilities | Sec. 1111(b)(3)(F)(ii) | Policy 2340, Policy 2419, Guidelines for assessment of special education | Assessment and Student Services | Policy—April 30, 2002. Guidelines—June 30, 2003.
D3 | Document that all students are included in the assessment system, especially LEP and students with disabilities | Sec. 1111(b)(3)(F)(i) | Comparison of enrolled students with those assessed | Office of Technology and Information Systems | December 31, 2004.
D4 | Develop statewide monitoring procedures to ensure the inclusion of all students | Sec. 1111(b)(3)(F)(i) | Policy 2320, OSE Monitoring Document | Office Special Education | January 2003.
D5 | Submit statewide monitoring procedures to ensure the inclusion of all students. | Sec. 1111(b)(3)(F)(i) | See D4 | Office of Technology and Information Systems | December 31, 2004.
D6 | Clarify how reasonable accommodations are provided to students with disabilities and limited English proficient students that allow for their scores to be included in the accountability system and submit to U.S. Department of Education. | Sec. 1111(b)(3)(F)(II) | Policy 2340, Guidelines for assessment of special education and LEP students | Assessment and Student Services | December 2002, December 2003, December 2004.
D7 | Clarify how data for students who take the alternate assessment and students administered assessments with non-standard accommodations will be incorporated into the accountability system and submit to U.S. Department of Education. | Sec. 1111(b)(3)(F)(I) | Policy 2510 | Deputy Superintendent | December 2004.
D8 | Provide complete participation data for students with disabilities and LEP students to that the State's inclusion policies relating to assessment, reporting, and accountability can be evaluated and submit to U.S. Department of Education. | Sec. 1111(b)(3)(F)(i) | Participation Report | Office of Technology and Information Systems | December 2002, December 2003, December 2004.
D9 | * Implementation of the English language proficiency testing required under Title I and Title III • Identify test that will be used. • Administer to all LEP students. • Define annual measurable objectives for gains in English proficiency as required in Sec. 3122. • Report results as required by NCLB. |  | Instructions to schools, test administration manuals, sample reports | Office of English as a Second Language | * 2002-2003 and Annually thereafter.
E Reporting
E1 | Design a reporting template for school, district, and state profiles that clearly communicates to educators, parents and stakeholders how the assessments relate to the content and performance standards and submit to U.S. Department of Education | Sec. 1111(b)(3)(H) | Report Template | Office of Technology and Information Systems | December 2004.
E2 | * Dissemination of disaggregated data at the school and district levels from the assessments currently in use. Assessment reports to include: gender, major racial/ethnic groups, English proficiency status, migrant status, students with disabilities as compared to nondisabled students, and economically disadvantaged students as compared to students who are not economically disadvantaged. | Sec. 1111(b)(3)(I) | Disaggregation Reports | Office of Technology and Information Systems | * August 31, 2002 (as available). August 31, 2003 (all subgroups) and annually thereafter.
E3 | Describe procedures for annually reporting these results and submit to U.S. Department of Education. | Sec. 1111(b)(3)(I) | Description of reporting process (with specific examples) | Office of Technology and Information Systems | December 2002, December 2003, December 2004.
E4 | Submit reporting policies for small groups | Sec. 1111(b)(3)(I) | Policy 2340 | Assessment and Student Services | January 2004.
E5 | Provide evidence that LEAs are completing and disseminating school and district profiles to all required audiences that include statistically sound disaggregated results and submit to U.S. Department of Education. | Sec. 1116(a)(3) | WV Code Citation, Letter to LEAs | Office of Technology and Information Systems | December 2002, December 2003, December 2004.
E6 | Document that all students are included in the school profiles including exempted students, special education students taking the alternate assessment and LEP students and submit to U.S. Department of Education. | Sec. 1111(b)(3)(F)(i) | Reports | Office of Technology and Information Systems | December 2002, December 2003, December 2004.
E7 | Provide individual reports of student achievement relative to the state performance standards and submit to U.S. Department of Education. | Sec. 1111(b)(3)(F)(i) | Reports | Office of Technology and Information Systems | December 2002 and December 2003 (Quartile), December 2004 (Performance Standards).
E8 | Describe strategies to ensure that individual reports go to all parents in understandable ways and submit to U.S. Department of Education. | Sec. 1118(c)(4)(B) | Narrative describing strategies and parent committee lists | Assessment and Student Services | December 2002, December 2003, December 2004.
E9 | Submit manuals and/or guidelines on the interpretation of these reports and submit to U.S. Department of Education. | Sec. 1118(c)(4)(B) | Manuals | Assessment and Student Services | December 2002, December 2003, December 2004.
E10 | Develop quality control procedures to check accuracy of scoring and reports and submit to U.S. Department of Education. | Sec. 1111(b)(3)(C) | TILSA Quality Control document | Assessment and Student Services | December 2002, December 2003, December 2004.
E11 | * Distribution of a state report card as required under Section 1111 of Title I. State report card must include the following: • Disaggregated student achievement results by performance level. • Percent of student not tested • Comparison between annual objectives and actual performance for each student group All other report card requirements must be met as quickly as possible, consistent with implementation of final assessments. (See E1) |  | Copy of State Report Card | Office of Technology and Information Systems | * Sept. 30, 2002, * Aug. 31, 2003, * Aug. 31, 2004.
E12 | * Annual report to the Secretary as described in Section 1111(h)(4) • Information on State progress in developing all required academic assessments • Student achievement data • Disaggregated data on acquisition of English proficiency by LEP (2002-2003) • Number and names of school identified for school improvement, the reason for identification, and measures taken to address achievement problems • Number of students and schools that participated in public school choice and supplemental services • Information on quality of teacher and percent of classes taught by highly qualified (2002-2003) |  | Part of Annual Title I Performance Report |  | * December 2002 and annually thereafter.
F1 | Develop a definition of adequate yearly progress that requires continuous improvement toward the goal of all students reaching proficiency and submit to U.S. Department of Education. |  | Agreed Order Tomblin Committee Agendas PowerPoint Presentations | Deputy Superintendent | December 2002, December 2003, December 2004.
F2 | Describe how the State assessments are defined as the primary element in the State's definition of adequate yearly progress for schools and districts and submit to U.S. Department of Education |  | See Section F1, Above | Deputy Superintendent | December 2002, December 2003, December 2004.
F3 | Demonstrate approval of this definition of adequate yearly progress and submit to U.S. Department of Education. |  | See Section F1, Above Policy 2510, State Board Minutes | Deputy Superintendent | December 2002, December 2003, December 2004.
F4 | Clarify how the State defines “full academic year” for including students in determining adequate yearly progress for schools and/or districts and submit to U.S. Department of Education. |  | Policy 2340, See Section F1, Above | Assessment and Student Services | December 2002, December 2003, December 2004.
F5 | Document that all students are included in the accountability system including special education students taking the alternate assessment, other special education students, 504 students, and LEP students and submit to U.S. Department of Education. |  | See Section F1, Above Dissagregation and Participation Report, Policy 2340, See Section D3, Above | Office of Technology and Information Systems | December 2002, December 2003, December 2004.
F6 | Provide information regarding how the State evaluates the effectiveness of schools that do not contain any of the grades covered by the State assessment system (e.g., K-2 schools) and submit to U.S. Department of Education. |  | PowerPoint Presentation See Section F1, Above Overview and Excerpt from Reading Assessment | Deputy Superintendent | December 2002, December 2003, December 2004.
F7 | Submit the definition of adequate yearly progress to the U.S. Department of Education for peer review. |  |  | Deputy Superintendent | December 2004.
F8 | *A. Continued identification of schools in need of improvement, based on data from the current assessment (s) for all children in the grade assessed and, to also include: • Performance of subgroups (of statistically reliable size) • Application of the 95% participation rule • HS graduation and the other indicators required by NCLB B. Establish AYP baseline, based on data from the new assessment (s) for all children in the grades assessed. Use transitional rules under NCLB, Sec. 1116 to identify schools in need of improvement. |  | Description of school accountability system to include the data source (assessments) and formula or decision sequence used to determine school classification. List of schools and districts identified for improvement Communication of baseline values and AYP design to schools and districts List of schools and districts identified for improvement | Deputy Superintendent | *Sept. 30, 2002, Aug. 31, 2003, Aug. 31, 2004.
F9 | *All other requirements of NCLB pertaining to schools identified for improvement, corrective action, or restructuring during the period of the compliance agreement. |  | Implementation and documentation of choice, supplemental services, corrective actions, as appropriate. | Office of Instructional Services | 2002-2003 and Annually thereafter.
All items marked with * are No Child Left Behind Act of 2001 requirements. West Virginia will have six months from the date of the Compliance Agreement or 30 days after publication of final regulations (whichever comes first) to determine the specific tasks and dates required to satisfy each goal.

[FR Doc. 03-4075 Filed 2-20-03; 8:45 am]

BILLING CODE 4000-01-P